DEPARTMENT OF COMMERCE

Bureau of Industry and Security

Emerging Technology Technical Advisory Committee; Notice of Open Meeting

The Emerging Technology Technical Advisory Committee (ETTAC) will meet on November 9, 2020, at 1:00 p.m. to 3:00 p.m., Eastern Standard Time. The meeting will be available via teleconference. The Committee advises the Office of the Assistant Secretary for Export Administration on the identification of emerging and foundational technologies with potential dual-use applications as early as possible in their developmental stages both within the United States and abroad.

Agenda

Open Session

1. Welcome and Introductions.

2. Introduction by the Bureau of Industry and Security Leadership.

3. Presentation on ETTAC Structure and Work Plan (Chair/Vice Chair).

4. Presentations on Emerging Technologies Trends.

5. Open Discussion (Comments, Q&A).

6. Conclusion/Adjournment.

The open session will be accessible via teleconference to 20 participants on a first come, first serve basis. To join the conference, submit inquiries to Ms. Yvette Springer at Yvette.Springer@bis.doc.gov no later than November 2, 2020.

A limited number of slots will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Yvette Springer,
Committee Liaison Officer.

[FR Doc. 2020-23839 Filed 10-27-20; 8:45 am]

BILLING CODE 3510-JT-P